ENVIRONMENTAL PROTECTION AGENCY

[EPA-HQ-OECA-2014-0075; FRL-9934-31-OEI]

Information Collection Request Submitted to OMB for Review and Approval; Comment Request; NESHAP for Municipal Solid Waste Landfills (Renewal)

AGENCY: Environmental Protection Agency (EPA).

ACTION: Notice.

SUMMARY: The Environmental Protection Agency has submitted an information collection request (ICR), “NESHAP for Municipal Solid Waste Landfills (40 CFR part 63, subpart AAAA) (Renewal)” (EPA ICR No. 1938.06, OMB Control No. 2060-0505) to the Office of Management and Budget (OMB) for review and approval in accordance with the Paperwork Reduction Act (44 U.S.C. 3501 et seq.). This is a proposed extension of the ICR, which is currently approved through September 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2015.

ADDRESSES: Submit your comments, referencing Docket ID Number EPA-HQ-OECA-2014-0075, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is (202) 566-1744. For additional information about EPA's public docket, visit www.epa.gov/dockets.

Abstract: The affected entities are subject to the General Provisions of the NESHAP at 40 CFR part 63, subpart A, and any changes, or additions to the Provisions specified at 40 CFR part 63, subpart AAAA. Owners or operators of affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners or operators of municipal solid waste landfills.

Respondent's obligation to respond: Mandatory (40 CFR part 63, subpart AAAA).

Estimated number of respondents: 1,127 (total).

Frequency of response: Occasionally and semiannually.

Total estimated burden: 20,900 hours (per year). Burden is defined at 5 CFR 1320.3(b).

Total estimated cost: $2,120,000 (per year), includes $16,900 annualized capital or operation & maintenance costs.

Changes in the Estimates: There is an increase in the total estimated burden as currently identified in the OMB Inventory of Approved Burdens. This increase is due to an increase in the number of new sources due to industry growth; it is not due to any program changes. In addition, we have adjusted the respondent burden calculation to assume all respondents will re-familiarize themselves with the regulatory requirements each year. There is also an increase in the total O&M cost associated with this ICR. Similar to the total estimated burden, EPA has adjusted the total O&M cost to account for industry growth that has occurred since the previous ICR.

Courtney Kerwin,
Acting Director, Collection Strategies Division.

[FR Doc. 2015-23555 Filed 9-18-15; 8:45 am]

BILLING CODE 6560-50-P